DEPARTMENT OF AGRICULTURE

Forest Service

Ravalli County Resource Advisory Committee

AGENCY: Forest Service, USDA.

ACTION: Notice of meeting.

SUMMARY: The Ravalli County Resource Advisory Committee will meet in Hamilton, Montana. The purpose of the meeting is to have presentations of projects for 2011.

DATES: The meeting will be held May 24, 2011 at 6:30 p.m.

ADDRESSES: The meeting will be held at 1801 N. First Street. Written comments should be sent to Stevensville RD, 88 Main Street, Stevensville, MT 59870. Comments may also be sent via e-mail to dritter@fs.fed.us or via facsimile to 406-777-5461.

All comments, including names and addresses when provided, are placed in the record and are available for public inspection and copying. The public may inspect comments received at Stevensville Ranger District. Visitors are encouraged to call ahead to 406-777-5461 to facilitate entry into the building.

FOR FURTHER INFORMATION CONTACT: Dan Ritter or Nancy Trotter at 406-777-5461.

Individuals who use telecommunication devices for the deaf (TDD) may call the Federal Information Relay Service (FIRS) at 1-800-877-8339 between 8 a.m. and 8 p.m., Mountain Standard Time, Monday through Friday.

SUPPLEMENTARY INFORMATION: The meeting is open to the public. Council discussion is limited to Forest Service staff and Council members. However, persons who wish to bring any matters to the attention of the Council may file written statements with the Council staff before or after the meeting. Public input sessions will be provided and individuals who made written requests by May 23, 2011 will have the opportunity to address the Council at those sessions.

Dated: April 8, 2011.
Julie K. King,
Forest Supervisor.

[FR Doc. 2011-9245 Filed 4-15-11; 8:45 am]

BILLING CODE 3410-11-P